INTERNATIONAL TRADE COMMISSION

[Investigations Nos. 701-TA-267 and 268 (Review) and 731-TA-297-299, 304 and 305 (Review)]

Porcelain-on-Steel Cooking Ware From China, Mexico, and Taiwan, and Top-of-the-Stove Stainless Steel Cooking Ware From Korea and Taiwan

Determinations

On the basis of the record ¹ developed in the subject five-year reviews, the United States International Trade Commission determines, pursuant to section 751(c) of the Tariff Act of 1930 (19 U.S.C. 1675(c)) (the Act), that revocation of the antidumping duty orders on porcelain-on-steel cooking ware from China, Mexico, and Taiwan would be likely to lead to continuation or recurrence of material injury to an industry in the United States within a reasonably foreseeable time.² The Commission also determines that the revocation of the countervailing duty orders and the revocation of the antidumping duty orders on top-of-the-stove stainless steel cooking ware from Korea and Taiwan would be likely to lead to continuation or recurrence of material injury to an industry in the United States within a reasonably foreseeable time.³

¹ The record is defined in sec. 207.2(f) of the Commission's Rules of Practice and Procedure (19 CFR 207.2(f)).

² Commissioner Thelma J. Askey dissenting.

³ Chairman Lynn M. Bragg and Commissioners Thelma J. Askey and Deanna Tanner Okun dissenting.

Background

The Commission instituted these reviews on February 1, 1999 (64 FR 4896) and determined on May 6, 1999, that it would conduct full reviews (64 FR 27295, May 19, 1999). Notice of the scheduling of the Commission's reviews and of a public hearing to be held in connection therewith was given by posting copies of the notice in the Office of the Secretary, U.S. International Trade Commission, Washington, DC, and by publishing the notice in the Federal Register on July 16, 1999 (64 FR 38471). The hearing was held in Washington, DC, on January 27, 2000, and all persons who requested the opportunity were permitted to appear in person or by counsel.

The Commission transmitted its determination in this review to the Secretary of Commerce on March 30, 2000. The views of the Commission are contained in USITC Publication 3286 (March 2000), entitled Porcelain-on-Steel Cooking Ware from China, Mexico, and Taiwan, and Top-of-the-Stove Stainless Steel Cooking Ware from Korea and Taiwan: Investigations Nos. 701-TA-267 and 268 (Review) and 731-TA-297-299, 304 and 305 (Review).

Issued: March 31, 2000.
By order of the Commission.
Donna R. Koehnke,
Secretary.

[FR Doc. 00-8368 Filed 4-4-00; 8:45 am]

BILLING CODE 7020-02-P